FEDERAL RESERVE SYSTEM

Change in Bank Control Notices; Acquisitions of Shares of a Bank or Bank Holding Company

The notificant listed below has applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than February 22, 2017.

A. Federal Reserve Bank of Chicago (Colette A. Fried, Assistant Vice President) 230 South LaSalle Street, Chicago, Illinois 60690-1414:

1. Steven H. Gerdes, Houston, Texas; to acquire voting shares or more of Citizen Bancshares, Inc., and thereby indirect control Citizens First State Bank of Walnut, both Walnut, Illinois.

B. Federal Reserve Bank of St. Louis (David L. Hubbard, Senior Manager) P.O. Box 442, St. Louis, Missouri 63166-2034. Comments can also be sent electronically to Comments.applications@stls.frb.org:

1. The Daniels Family Investment Trust, Charles and Sonya Daniels as co-trustees, Charles Franklin Daniels, individually, Sonya Kay Daniels, individually, all of Navarre Beach, Florida; James Troy “J.T.” Compton, Mountain View, Arkansas, individually, and Charles Kevin Compton, Little Rock, Arkansas, individually, and as members of a family control group to retain control of the voting of Stone Bancshares, Inc., and thereby retain shares of Stone Bank both Mountain View, Arkansas.

Board of Governors of the Federal Reserve System, February 1, 2017.
Yao Chin Chao,
Assistant Secretary of the Board.

[FR Doc. 2017-02578 Filed 2-7-17; 8:45 am]

BILLING CODE P